DEPARTMENT OF HOMELAND SECURITY

U.S. Citizenship and Immigration Services

[CIS No. 2732-22; DHS Docket No. USCIS-2008-0034]

RIN 1615-ZB71

Reconsideration and Rescission of Termination of the Designation of El Salvador for Temporary Protected Status; Extension of the Temporary Protected Status Designation for El Salvador

AGENCY: U.S. Citizenship and Immigration Services (USCIS), Department of Homeland Security (DHS).

ACTION: Notice of Reconsideration and Rescission of Termination of the Designation of El Salvador for Temporary Protected Status (TPS) and Notice of Extension of TPS Designation for El Salvador.

SUMMARY: Through this notice, the Department of Homeland Security (DHS) announces that the Secretary of Homeland Security (Secretary) is rescinding the previous termination of the designation of El Salvador for TPS, which was published on January 18, 2018 and extending the designation of El Salvador for Temporary Protected Status (TPS) for 18 months, beginning on September 10, 2023, and ending on March 9, 2025. This extension allows existing TPS beneficiaries to retain TPS through March 9, 2025, so long as they otherwise continue to meet the eligibility requirements for TPS. Existing TPS beneficiaries who wish to extend their status through March 9, 2025, must re-register during the 60-day re-registration period as described in this notice.

DATES: The Rescission of Termination of the Designation of El Salvador for TPS took effect June 9, 2023.

Extension of Designation of El Salvador for TPS: The 18-month extension of TPS for El Salvador begins on September 10, 2023, and will remain in effect through March 9, 2025. The extension impacts existing beneficiaries of TPS under the designation of El Salvador.

Re-registration: The 60-day re-registration period for existing beneficiaries runs from July 12, 2023 through September 10, 2023.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 800-375-5283.

• For further information on TPS, including guidance on the registration process and additional information on eligibility, please visit the USCIS TPS web page at https://www.uscis.gov/tps. You can find specific information about El Salvador's TPS designation by selecting “El Salvador” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at https://www.uscis.gov/contactcenter.

• Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Purpose of This Action (TPS)

Through this notice, DHS announces the reconsideration and rescission of the termination of the designation of El Salvador for TPS and the Secretary's decision to extend the TPS designation for 18 months from September 10, 2023 through March 9, 2025. This notice also sets forth procedures necessary for nationals of El Salvador (or individuals having no nationality who last habitually resided in El Salvador) to re-register for TPS and to apply for renewal of their EADs with USCIS.

Re-registration is limited to individuals who have previously registered or re-registered for TPS under El Salvador's designation, whose applications were granted, and whose TPS has not been withdrawn for individual ineligibility for the benefit. Failure to re-register properly within the 60-day re-registration period may result in the withdrawal of your TPS following appropriate procedures. See 8 CFR 244.14.

For individuals who have already been granted TPS under El Salvador's designation, the 60-day re-registration period runs from July 12, 2023 through September 10, 2023. USCIS will issue new EADs with a March 9, 2025 expiration date to eligible Salvadoran TPS beneficiaries who timely re-register and apply for EADs.

Individuals who have an El Salvador TPS application (Form I-821) and Application for Employment Authorization (Form I-765) that were still pending as of June 21, 2023 do not need to file either application again. If USCIS approves an individual's pending Form I-821, USCIS will grant the individual TPS through March 9, 2025. Similarly, if USCIS approves a pending TPS-related Form I-765 filed in connection with a Form I-821, USCIS will issue the individual a new EAD that will be valid through the same date. If you have TPS and only a pending Form I-765, you must file the Form I-821 to re-register for TPS or risk having your TPS withdrawn for failure to timely re-register without good cause. There are currently approximately 239,000 beneficiaries under El Salvador's TPS designation who may be eligible to continue their TPS under the extension announced in this Notice.

What is Temporary Protected Status (TPS)?

• TPS is a temporary immigration status granted to eligible nationals of a foreign state designated for TPS under the INA, or to eligible individuals without nationality who last habitually resided in the designated foreign state before arrival in the United States, regardless of their country of birth.

• During the TPS designation period, TPS beneficiaries are eligible to remain in the United States, may not be removed, and are authorized to obtain EADs so long as they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was El Salvador designated for TPS?

El Salvador was initially designated for TPS on the basis of environmental disaster, following two separate massive earthquakes in 2001 ¹ that resulted in a substantial disruption of living conditions, at the request of the country's government, and because El Salvador temporarily was unable to handle adequately the return of its nationals. See Designation of El Salvador Under Temporary Protected Status Program, 66 FR 14214 (Mar. 9, 2001). After its initial designation, El Salvador's TPS designation was extended 11 consecutive times ² (for periods of 12 or 18 months at a time) under the same statutory basis of environmental disaster. The Secretary last extended TPS for El Salvador from July 8, 2016 through March 9, 2018.³ Following the statutorily required review of the country conditions, former Secretary Nielsen announced the termination of TPS for El Salvador with an effective date of September 9, 2019.⁴ As discussed below, this termination decision has been the subject of litigation and a court order. As a result, the termination has not taken effect.

¹ El Salvador—Earthquakes Final Fact Sheet, Fiscal Year (FY) 2001, US Agency for International Development Situation Report, Sept. 7, 2001, available at https://reliefweb.int/report/el-salvador/el-salvador-earthquakes-final-fact-sheet-fiscal-year-fy-2001 (last visited March 6, 2023). (The first earthquake on January 13, 2001, registered 7.6 in magnitude on the standard seismic scale; the earthquake on February 13, 2001, one month later, measured 6.6 in magnitude.)

² Extension of the Designation of El Salvador Under the Temporary Protected Status Program; Automatic Extension of Employment Authorization Documentation for Salvadorans, 67 FR 46000 (July 11, 2002); Extension of the Designation of El Salvador Under Temporary Protected Status Program; Automatic Extension of Employment Authorization Documentation for El Salvador, 68 FR 42071 (July 16, 2003); Extension of the Designation of Temporary Protected Status for El Salvador; Automatic Extension of Employment Authorization Documentation for El Salvador TPS Beneficiaries, 70 FR 1450 (Jan. 7, 2005); Extension of the Designation of Temporary Protected Status for El Salvador; Automatic Extension of Employment Authorization Documentation for El Salvadorian TPS Beneficiaries, 71 FR 34637 (June 15, 2006); Extension of the Designation of El Salvador for Temporary Protected Status; Automatic Extension of Employment Authorization Documentation for Salvadoran TPS Beneficiaries, 72 FR 46649 (Aug. 21, 2007); Extension of the Designation of El Salvador for Temporary Protected Status, 73 FR 57128 (Oct. 1, 2008); Extension of the Designation of El Salvador for Temporary Protected Status and Automatic Extension of Employment Authorization Documentation for Salvadoran TPS Beneficiaries, 75 FR 39556 (July 9, 2010); Extension of the Designation of El Salvador for Temporary Protected Status and Automatic Extension of Employment Authorization Documentation for Salvadoran TPS Beneficiaries, 77 FR 1710 (Jan. 11, 2012); Extension of the Designation of El Salvador for Temporary Protected Status, 78 FR 32418, (May 30, 2013); Extension of the Designation of El Salvador for Temporary Protected Status, 80 FR 893 (Jan. 7, 2015); Extension of the Designation of El Salvador for Temporary Protected Status, 81 FR 44645 (July 8, 2016).

³ Extension of the Designation of El Salvador for Temporary Protected Status, 81 FR 44645 (July 8, 2016).

⁴ Termination of the Designation of El Salvador for Temporary Protected Status, 83 FR 2654 (Jan. 18, 2018).

Litigation Background Regarding Termination of Certain TPS Designations

In addition to El Salvador, in 2017-2018, TPS termination decisions were also announced for five other countries by the Secretary or Acting Secretary: Sudan, Nicaragua, Haiti, Nepal, and Honduras.⁵ Lawsuits challenging the terminations were filed in the U.S. District Court for the Northern District of California in Ramos v. Nielsen, 326 F. Supp. 3d 1075 (N.D. Cal. 2018), and Bhattarai v. Nielsen, No. 19-cv-00731 (N.D. Cal. Mar. 12, 2019), and in the U.S. District Court for the Eastern District of New York in Saget v. Trump, 375 F. Supp. 3d 280 (E.D.N.Y. 2019).⁶ In Ramos, the district court granted a preliminary injunction enjoining the terminations of TPS for El Salvador, Haiti, Sudan, and Nicaragua and directed DHS to maintain the status quo and to continue the TPS and TPS-related documentation of affected TPS beneficiaries under those countries' designations. The U.S. Government appealed, and a three-judge panel vacated the injunction. The appellate court, however, has granted rehearing en banc of the panel decision, vacating the panel's decision.⁷ The district court's preliminary injunction thus remains in place. In Bhattarai, the district court has stayed proceedings until the Ramos appeal is decided and approved the parties' stipulation for the continuation of TPS and TPS-related documentation for eligible, affected beneficiaries of TPS for Honduras and Nepal during the stay and pendency of the Ramos appeal. In Saget, the district court granted a preliminary injunction enjoining termination of TPS for Haiti, and the Government appealed. However, following the new TPS designation of Haiti in August 2021, the district court dismissed the lawsuit based on the parties' stipulation to dismissal.⁸ Beneficiaries under the TPS designations for El Salvador, Nicaragua, Sudan, Haiti, Honduras, and Nepal will retain their TPS while the preliminary injunction in Ramos remains in effect, and 120 days thereafter, provided that their TPS is not withdrawn because of individual ineligibility.⁹

⁵ Termination of the Designation of Sudan for Temporary Protected Status, 82 FR 47228 (Oct. 11, 2017); Termination of the Designation of Nicaragua for Temporary Protected Status, 82 FR 59636 (Dec. 15, 2017); Termination of the Designation of Haiti for Temporary Protected Status, 83 FR 2648 (Jan. 18, 2018); Termination of the Designation of Nepal for Temporary Protected Status, 83 FR 23705 (May 22, 2018); Termination of the Designation of Honduras for Temporary Protected Status, 83 FR 26074 (June 5, 2018). Haiti and Sudan were later newly designated for TPS on August 3, 2021 and April 19, 2022, respectively, for 18 months. See Designation of Haiti for Temporary Protected Status, 86 FR 41863 (Aug. 3, 2021); Designation of Sudan for Temporary Protected Status, 87 FR 23202 (Apr. 19, 2022).

⁶ See Ramos v. Nielsen, 336 F. Supp. 3d 1075 (N.D. Cal. 2018), vacated, 975 F.3d 872 (9th Cir. 2020), reh'g en banc granted, 59 F.4th 1010 (Feb. 10, 2023); Bhattarai v. Nielsen, No. 19-cv-00731 (N.D. Cal. Mar. 12, 2019) (staying proceedings until Ramos appeal decided and approved parties' stipulation for continued TPS and issuance of TPS-related documentation to eligible, affected beneficiaries of TPS for Honduras and Nepal during the stay and pendency of the appeal). In 2019, the U.S. District Court for the Eastern District of New York also enjoined the termination of the 2011 TPS designation for Haiti in Saget v. Trump, 375 F. Supp. 3d 280 (E.D.N.Y. 2019), and DHS cited to that order in previous notices continuing the affected beneficiaries' TPS and documentation. See, e.g., 86 FR 50725, 50726 (Sept. 10, 2021). However, the Saget case was dismissed upon the court's approval of the parties' joint Stipulation of Dismissal for mootness following the Secretary's new 18-month designation of Haiti for TPS on August 3, 2021, and DHS' continuation of existing beneficiaries' TPS and related documentation under the Ramos injunction through Dec. 31, 2022. See id., Order approving Stipulation of Dismissal, dated Oct. 15, 2021. Other litigation was filed relating to the terminations of El Salvador, Honduras, and Haiti. A Haiti-related case, NAACP v. U.S. Dept. of Homeland Security, No. 1:18-cv-00239 (D. Md. Jan. 24, 2018) was dismissed on May 22, 2021, subsequent to the same DHS designation. An El Salvador-related case, Casa de Maryland, v. Biden, No. GJH-18-00845 (D. Md. Mar. 23, 2018), is currently stayed until April 17, 2023. Centro Presente v. Biden, No. 1:18-cv-10340 (D. Mass. July 23, 2018), relating to El Salvador, Haiti, and Honduras, is currently stayed until April 14, 2023.

⁷ See Ramos v. Wolf, 975 F.3d 872 (9th Cir. 2020), petition for reh'g en banc granted, 59 F.4th 1010 (Feb. 10, 2023) (No. 18-16981).

⁸ See Saget v. Trump, 375 F. Supp. 3d 280 (E.D.N.Y. 2019) and Order approving Stipulation of Dismissal, dated Oct. 15, 2021.

⁹ As noted, Haiti was newly designated for TPS on August 3, 2021 for 18 months. See Designation of Haiti for Temporary Protected Status, 86 FR 41863 (Aug. 3, 2021). On April 19, 2022, the Secretary also newly designated Sudan TPS. See Designation of Sudan for Temporary Protected Status, 87 FR 23202 (Apr. 19, 2022). Those designations cover all Haitian and Sudanese nationals who were eligible for TPS under the Haiti and Sudan TPS designations that were terminated in 2018 and 2017, respectively.

DHS has taken actions to ensure its continued compliance with the court orders in Ramos and Bhattarai. DHS has published periodic notices to continue TPS and extend the validity of TPS-related documentation previously issued to beneficiaries under the TPS designations for El Salvador, Haiti, Nicaragua, Sudan, Honduras, and Nepal.¹⁰ The most recent such notice continued TPS and extended the TPS-related documents specified in the notice through June 30, 2024.¹¹ These extensions apply where the TPS beneficiary properly filed for re-registration during either the most recent DHS-announced registration period for their country, or any applicable previous DHS-announced re-registration periods for the beneficiary's country, or has a re-registration application that remains pending.¹² Although the notice published at 87 FR 68717 remains valid, individuals who wish to remain eligible for TPS under the extension of TPS for El Salvador announced in this notice through March 9, 2025, and any potential future extensions must apply for re-registration in accordance with the procedures announced in this notice.¹³ Failure to timely re-register without good cause is a ground for TPS withdrawal. See INA section 244(c)(3)(C), 8 U.S.C. 1254a(c)(3)(C); 8 CFR 244.17.

¹⁰ 83 FR 54764 (Oct. 31, 2018); 84 FR 7103 (Mar. 1, 2019); 84 FR 20647 (May 10, 2019) (correction notice issued at 84 FR 23578 (May 22, 2019)); 84 FR 59403 (Nov. 4, 2019); 85 FR 79208 (Dec. 9, 2020); 86 FR 50725 (Sept. 10, 2021) (correction notice issued at 86 FR 52694 (Sept. 22, 2021)).

¹¹ Continuation of Documentation for Beneficiaries of Temporary Protected Status Designations of El Salvador, Haiti, Nicaragua, Sudan, Honduras, and Nepal, 87 FR 68717 (Nov. 16, 2022).

¹² Id., at 68719, note 5 (listing acceptable re-registration periods for each of the 6 countries).

¹³ Through the re-registration process, which is generally conducted every 12 to 18 months while a foreign state is designated for TPS, USCIS determines whether each TPS beneficiary is continuing to maintain individual eligibility for TPS, including but not limited to, the requirements related to disqualifying criminal or security issues. Continuation of Documentation for Beneficiaries of Temporary Protected Status Designations for El Salvador, Haiti, Nicaragua, Sudan, Honduras, and Nepal, 87 FR 68717, 68720 (Nov. 16, 2022) (noting potential future action for El Salvador TPS beneficiaries may include a requirement to re-register).

What authority does the Secretary have to reconsider and rescind the termination of TPS for El Salvador and extend the prior designation?

Section 244(b)(1) of the INA, 8 U.S.C. 1254a(b)(1), authorizes the Secretary, after consultation with appropriate agencies of the U.S. Government, to designate a foreign state (or part thereof) for TPS if the Secretary determines that certain country conditions exist.¹⁴ The decision to designate any foreign state (or part thereof) is a discretionary decision, and there is no judicial review of any determination with respect to the designation, termination, or extension of a designation. See INA section 244(b)(5)(A); 8 U.S.C. 1254a(b)(5)(A).

¹⁴ Although the text of INA section 244(b)(1) continues to ascribe this power to the Attorney General, this authority is now held by the Secretary of Homeland Security by operation of the Homeland Security Act of 2002, Pub. L. 107-296, 116 Stat. 2135. See, e.g., 6 U.S.C. 557; Nielsen v. Preap, 139 S. Ct. 954, 959 n.2 (2019). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA section 244(b)(1).

At least 60 days before the expiration of a foreign state's TPS designation, the Secretary, after consultation with appropriate U.S. Government agencies, must review the conditions in the foreign state designated for TPS to determine whether they continue to meet the conditions for the TPS designation. See INA section 244(b)(3)(A), 8 U.S.C. 1254a(b)(3)(A). If the Secretary determines that the foreign state no longer meets the conditions for TPS designation, the Secretary must terminate the designation. See INA section 244(b)(3)(B), 8 U.S.C. 1254a(b)(3)(B). If the Secretary does not determine that the foreign state no longer meets the conditions for TPS designation, the designation is extended for an additional period of 6 months or, in the Secretary's discretion, 12 or 18 months. See INA section 244(b)(3)(A), (C); 8 U.S.C. 1254a(b)(3)(A), (C).

On January 18, 2018, the Secretary of Homeland Security issued notice of her decision that El Salvador no longer continued to meet the conditions for TPS designation and announced the termination of TPS for El Salvador. The Secretary also announced an orderly transition period of 18 months, such that the termination was set to go into effect on September 9, 2019. On March 12, 2018, as noted above, plaintiffs in Ramos filed suit challenging the termination decision for El Salvador, as well as contemporaneous decisions to terminate TPS for Nicaragua, Sudan, and Haiti. On October 3, 2018, the U.S. District Court for the Northern District of California issued a preliminary injunction order in Ramos, preventing the termination decision from going into effect until the court reaches a decision on the merits of the plaintiffs' claims and further directing that DHS maintain the status quo, including continuing TPS and TPS-related documentation, such as Employment Authorization Documents (EADs), for affected beneficiaries. After reaching a stipulation with plaintiffs that no termination would go in effect for at least 120 days following the conclusion of any appeal, DHS has issued a series of Federal Register notices continuing TPS and TPS-related documentation for affected TPS beneficiaries, with the most recent continuation notice effective through June 30, 2024.¹⁵ As a result, the announced termination of the TPS designation for El Salvador has never gone into effect, and TPS beneficiaries under that designation have retained their TPS, unless it has been individually withdrawn pursuant to INA section 244(c)(3), 8 U.S.C. 1254a(c)(3).

¹⁵ See note 13 above.

An agency has inherent (that is, statutorily implicit) authority to revisit its prior decisions unless Congress has expressly limited that authority.¹⁶ The TPS statute does not limit the Secretary's inherent authority to reconsider any TPS-related determination, and upon reconsideration, to change the determination. See INA sections 244(b)(3), (b)(5)(A); 8 U.S.C. 1254a(b)(3), (b)(5)(A).

¹⁶ Ivy Sports Medicine, LLC v. Burwell, 767 F.3d 81, 86 (D.C. Cir. 2014) (“[A]dministrative agencies are assumed to possess at least some inherent authority to revisit their prior decisions, at least if done in a timely fashion. . . . [I]nherent authority for timely administrative reconsideration is premised on the notion that the power to reconsider is inherent in the power to decide.” (quotation marks and citations omitted)); Macktal v. Chao, 286 F.3d 822, 825-26 (5th Cir. 2002) (“It is generally accepted that in the absence of a specific statutory limitation, an administrative agency has the inherent authority to reconsider its decisions.”) (collecting cases); Mazaleski v. Treusdell, 562 F.2d 701, 720 (D.C. Cir. 1977) (“We have many times held that an agency has the inherent power to reconsider and change a decision if it does so within a reasonable period of time.”).

Why is the Secretary rescinding the previous decision to terminate the TPS designation for El Salvador?

After conducting an independent assessment of the country conditions in El Salvador as they existed in 2018 and exist today, the Secretary has determined that El Salvador's 2001 TPS designation should not have been terminated. As explained below, the conditions in El Salvador that gave rise to its TPS designation in 2001 persisted in 2018 and persist to this day. Accordingly, the Secretary is, upon reconsideration, vacating the 2018 decision terminating El Salvador's TPS designation and extending that designation for an additional 18 months.

El Salvador was initially designated for TPS in 2001 on environmental disaster grounds ¹⁷ following two separate earthquakes that occurred that year. El Salvador suffered catastrophic damage as a result of the 2001 earthquakes. Together, the earthquakes killed over 1,150 people,¹⁸ injured over 8,000, and affected more than 1.5 million people ¹⁹ (approximately 25 percent of the population ²⁰). The earthquakes damaged or destroyed over 300,000 homes, 2,647 public schools and demolished critical infrastructure throughout the country.²¹ The international community responded to the disaster with a significant amount of aid, with the United States initially providing $16 million in relief assistance and announcing another $52 million for reconstruction assistance.²² Intergovernmental organizations and other governments also provided substantial aid, including a $20 million emergency loan from the Inter-American Development Bank (IDB), $4 million for World Food Programme (WFP) emergency operations, and $1.3 billion in pledges from various countries.²³

¹⁷ Designation of El Salvador Under Temporary Protected Status Program, 66 FR 14214 (Mar. 9, 2001).

¹⁸ Earthquakes Fast Facts, CNN Editorial Research, June 22, 2022, available at https://www.cnn.com/2013/07/05/world/earthquakes-fast-facts/index.html (last visited March 6, 2023).

¹⁹ El Salvador—Earthquakes Final Fact Sheet, Fiscal Year (FY) 2001, US Agency for International Development Situation Report, Sept. 7, 2001, available at https://reliefweb.int/report/el-salvador/el-salvador-earthquakes-final-fact-sheet-fiscal-year-fy-2001 (last visited March 6, 2023).

²⁰ El Salvador Earthquakes: Final Fact Sheet (FY 2001); AFSC El Salvador earthquake response: Two years later—An assessment and report, American Friends Service Committee, May 15, 2003, available at https://reliefweb.int/report/el-salvador/afsc-el-salvador-earthquake-response-two-years-later-assessment-and-report (last visited March 6, 2023).

²¹ El Salvador Earthquakes: Final Fact Sheet (FY 2001); AFSC El Salvador earthquake response: Two years later—An assessment and report, American Friends Service Committee, May 15, 2003, available at https://reliefweb.int/report/el-salvador/afsc-el-salvador-earthquake-response-two-years-later-assessment-and-report (last visited March 6, 2023).

²² Statement by the President: Relief and Reconstruction Assistance for El Salvador, March 2, 2001, https://georgewbush-whitehouse.archives.gov/news/releases/2001/03/20010302-9.html (last visited: March 6, 2023).

²³ El Salvador—Earthquakes Final Fact Sheet, Fiscal Year (FY) 2001, Sept. 7, 2001, https://reliefweb.int/report/el-salvador/el-salvador-earthquakes-final-fact-sheet-fiscal-year-fy-2001 (last visited: March 6, 2023).

While some progress on reconstruction projects had been made by 2018, many of the problems caused by the 2001 earthquakes persisted.²⁴ Since the disastrous effects of the earthquakes in 2001, El Salvador has been encumbered by several natural disasters, environmental challenges, high levels of violence, and economic instability, all of which significantly slowed its recovery and continued to render El Salvador unable to handle the return of its nationals at the time of the decision to terminate the designation.²⁵

²⁴ A January 2016 report by a Salvadoran media outlet found individuals living in homes in San Salvador (El Salvador's capital city) which were declared uninhabitable due to structural damage from the 2001 earthquakes or their locations in areas at high risk from landslides or the potential collapse of walls. While schools have been reconstructed and repaired—including via the U.S. Agency for International Development's (USAID) Earthquake Reconstruction Program—in January 2016 a Salvadoran media outlet reported that certain buildings and schools damaged by the 2001 earthquakes had not yet been repaired or rebuilt. Joma, Susana, Edificios dañados por los terremotos aún son amenaza, El Diario de Hoy (El Sal.), Jan. 11, 2016; Contributions of the PDNA and DRF to Post-Disaster Recovery: El Salvador Case Study 2022, United Nations Development Programme, available at https://www.undp.org/latin-america/publications/case-study-contributions-pdna-and-drf-post-disaster (last visited: March 17, 2023).

²⁵ El Salvador-Disaster Response, USAID, Sept. 7, 2022, available at https://www.usaid.gov/el-salvador/our-work/disaster-response (last visited March 6, 2023); Miracle or Mirage? Gangs and Plunging Violence in El Salvador, International Crisis Group, p.2, July 8, 2020, available at https://www.crisisgroup.org/latin-america-caribbean/central-america/el-salvador/81-miracle-or-mirage-gangs-and-plunging-violence-el-salvador (last visited March 6, 2023); El Salvador: Civil War, Natural Disasters, and Gang Violence Drive Migration, Migration Policy Institute, Aug. 29, 2018, available at: https://www.migrationpolicy.org/article/el-salvador-civil-war-natural-disasters-and-gang-violence-drive-migration (last visited: March 6, 2023).

At the time of the determination to terminate the designation of TPS, DHS found that the social and economic conditions affected by the earthquakes had stabilized. That conclusion was in error and reflects an inadequate assessment of conditions in El Salvador leading up to the announcement of the decision to terminate. Although some social and economic progress had been made by 2018, frequent and significant environmental disasters occurred after the 2001 earthquakes causing additional challenges.²⁶ Recovery from the earthquakes continued to be slow and encumbered by hurricanes and tropical storms, heavy rains and flooding, volcanic and seismic activity, a coffee rust epidemic, a prolonged and severe drought, and an increase in various mosquito-borne diseases, among other things.

²⁶ Report: Extending Temporary Protected Status for El Salvador: Country Conditions and U.S. Legal Requirements, American University, Dec. 2017, available at: https://www.american.edu/centers/latin-american-latino-studies/extending-tps-for-el-salvador.cfm (last visited: March 6, 2023); Resolving Land Ownership Issues for a Community Water Project: A Post-Earthquake Development Dispute in Rural El Salvador, April 07, 2010, https://www.tandfonline.com/doi/pdf/10.1080/14649350903538046 (last visited: March 6, 2023).

Numerous natural disasters have negatively affected El Salvador since the 2001 earthquakes and have adversely impacted its ability to adequately handle the return of its nationals granted TPS. In October 2005, for instance, the severe flooding caused by Tropical Storm Stan, coupled with the eruption of the Ilamatepec volcano in early October 2005, affected approximately half of the population of El Salvador.²⁷ In November 2009, Tropical Storm Ida caused severe damage and loss of life.²⁸ In October 2011, Tropical Storm 12-E caused flooding and mudslides across El Salvador.²⁹ In June 2013, Tropical Storm Barry caused flooding.³⁰ and the high waves produced by tropical storms in May 2015 forced evacuations and caused damage along the Salvadoran coastal line.³¹ In October 2015, heavy rains produced flooding and landslides across El Salvador.³² In 2016, El Salvador had the third highest percentage of people exposed to disaster risk in the world, with 88.7 percent of the land and 95.4 percent of the population at risk of multiple kinds of disasters.³³ In June 2017, several days of heavy rainfall caused floods and landslides; four people were killed, nearly 300 were displaced, and over 200 homes were damaged.³⁴ In early October 2017, Tropical Storm Nate impacted El Salvador, leaving one person dead and one missing.³⁵ In late October 2017, Tropical Storm Selma brought heavy rain and flooding that caused massive mudslides, overflowed rivers, and left debris on roads.³⁶

²⁷ El Salvador: Hurricane Stan, Floods and Volcanic Activity OCHA Situation Report No. 2, UN Office for the Coordination of Humanitarian Affairs, Oct. 7, 2005, available at https://reliefweb.int/report/el-salvador/el-salvador-hurricane-stan-floods-and-volcanic-activity-ocha-situation-report-no (last visited March 6, 2023); Analysis of Tropical Storm Stan in El Salvador, Centro de Intercambio y Solidaridad, Nov. 16, 2005, available at: https://reliefweb.int/report/el-salvador/analysis-tropical-storm-stan-el-salvador (last visited Mar. 6, 2023); El Salvador-Disaster Response, USAID, Sept. 7, 2022, available at https://www.usaid.gov/el-salvador/our-work/disaster-response (last visited March 6, 2023).

²⁸ Hurricane Ida and floods in Central America: OCHA Situation Report No. 1, UN Office for the Coordination of Humanitarian Affairs, Nov. 9, 2009 available at: https://reliefweb.int/report/el-salvador/hurricane-ida-and-floods-central-america-ocha-situation-report-no-1-9-nov-2009 (last visited Mar. 6, 2003); El Salvador-Disaster Response, USAID, Sept. 7, 2022, available at https://www.usaid.gov/el-salvador/our-work/disaster-response (last visited March 6, 2023).

²⁹ Bertelsmann Stiftung, BTI 2014—El Salvador Country Report. Gütersloh: Bertelsmann Stiftung, 2014, available at https://bti-project.org/fileadmin/api/content/en/downloads/reports/country_report_2014_SLV.pdf (last visited Mar. 7, 2023); El Salvador-Disaster Response, USAID, Sept. 7, 2022, available at https://www.usaid.gov/el-salvador/our-work/disaster-response (last visited March 6, 2023).

³⁰ Stewart, Stacy R., Tropical Storm Barry (AL022013), 17-20 June 2013, National Hurricane Center, Oct. 7, 2013, available at https://www.nhc.noaa.gov/data/tcr/AL022013_Barry.pdf (last visited March 6, 2023).

³¹ El Salvador: Storm Surge Emergency Plan of Action (EPoA) DREF Operation n° MDRSV008, International Federation of Red Cross And Red Crescent Societies (IFRC) Situation Report, May 15, 2015, available at http://reliefweb.int/report/el-salvador/el-salvador-storm-surge-emergency-plan-action-epoa-dref-operation-n-mdrsv008 (last visited March 6, 2023).

³² Guinto, Joel, Typhoon Kills At Least 16 In Philippines, Strands Thousands, Terra Daily, Oct. 19, 2015, available at http://www.terradaily.com/reports/Typhoon_kills_at_least_16_in_Philippines_strands_thousands_999.html (last visited: March 6, 2023).

³³ Signing of Japanese ODA Loan with El Salvador: Improving the capacity to mitigate and manage disaster risk, and providing speedy assistance for financing needs in the reconstruction stage, Japan International Cooperation Agency, May 30, 2016, available at https://reliefweb.int/report/el-salvador/signing-japanese-oda-loan-el-salvador-improving-capacity-mitigate-and-manage (last visited: March 6, 2023).

³⁴ El Salvador—Floods (Dirección General de Protección Civil, SNET, Local Media) (ECHO Daily Flash of 20 June 2017), European Commission's Directorate-General for European Civil Protection and Humanitarian Aid Operations, June 20, 2017, available at https://reliefweb.int/report/el-salvador/el-salvador-floods-direcci-n-general-de-protecci-n-civil-snet-local-media-echo (last accessed March 6, 2023).

³⁵ Nate Kills At Least 20 in Central America, Tracks Toward US, VOA News, Oct. 6, 2017, available at https://www.voanews.com/a/nate-takes-aim-us-still-reeling-from-earlier-storms/4059008.html (last accessed March 6, 2023).

³⁶ Report: Extending Temporary Protected Status for El Salvador: Country Conditions and U.S. Legal Requirements, American University, Dec. 2017, available at: https://www.american.edu/centers/latin-american-latino-studies/extending-tps-for-el-salvador.cfm (last visited: March 6, 2023).

These environmental disasters have had negative impacts on El Salvador's economic stability that were not considered in the 2018 termination decision.³⁷ The 2018 termination decision highlighted El Salvador's steady unemployment rate of 7 percent from 2014-2016 but failed to consider that it has the second slowest economic growth rate in Central America, leading to an underemployment rate of 36.8 percent in 2018.³⁸ According to the 2017 Global Climate Risk Index, El Salvador ranked as the 15th most affected country in the world by extreme weather events from 1996 to 2015, the most recent year for which data was available at the time the termination decision was made.³⁹ During this time, El Salvador averaged $282 million in damages per year—equivalent to 0.7 percent of its GDP.⁴⁰ In 2016, El Salvador was considered the 17th highest country in the world in terms of the impact of disasters on the gross domestic product.⁴¹ An estimated 95.4 percent of its GDP is exposed to two or more natural hazards, making it the country with the second highest economic multi-hazard risk worldwide relative to its GDP.⁴² In fact, earthquakes have been responsible for the greatest proportion of economic loss, with the 2001 earthquakes causing effects equivalent to 12 percent of El Salvador's GDP.⁴³ These facts highlight that El Salvador continued to face serious environmental obstacles at the time of the decision to terminate TPS.

³⁷ Contributions of the PDNA and DRF to Post-Disaster Recovery: El Salvador Case Study 2022, United Nations Development Programme, available at https://www.undp.org/latin-america/publications/case-study-contributions-pdna-and-drf-post-disaster (last accessed March 6, 2023).

³⁸ Fact Sheet Employment and Migration El Salvador 2021, International Labour Organization, December 8, 2021, available at https://www.ilo.org/wcmsp5/groups/public/---americas/---ro-lima/---sro-san_jose/documents/publication/wcms_831274.pdf (last accessed March 6, 2023).

³⁹ Kreft, Sönke, Eckstein, David and Melchior, Inga, Global Climate Risk Index 2018, Germanwatch, p. 23, Nov. 2017.

⁴⁰ Kreft, Sönke, Eckstein, David and Melchior, Inga, Global Climate Risk Index 2018, Germanwatch, p. 23, Nov. 2017.

⁴¹ Signing of Japanese ODA Loan with El Salvador: Improving the capacity to mitigate and manage disaster risk, and providing speedy assistance for financing needs in the reconstruction stage, Japan International Cooperation Agency, May 30, 2016, available at https://reliefweb.int/report/el-salvador/signing-japanese-oda-loan-el-salvador-improving-capacity-mitigate-and-manage (last visited: March 6, 2023).

⁴² Contributions of the PDNA and DRF to Post-Disaster Recovery: El Salvador Case Study 2022, United Nations Development Programme, available at https://www.undp.org/latin-america/publications/case-study-contributions-pdna-and-drf-post-disaster (last accessed March 6, 2023).

⁴³ Contributions of the PDNA and DRF to Post-Disaster Recovery: El Salvador Case Study 2022, United Nations Development Programme, available at https://www.undp.org/latin-america/publications/case-study-contributions-pdna-and-drf-post-disaster (last accessed March 6, 2023).

In addition to the ongoing environmental and economic impacts from the 2001 earthquakes, high levels of violence have continued to render El Salvador unable to handle the return of those granted TPS. At the time of the decision to terminate TPS, DHS found that the social and economic conditions affected by the earthquakes had stabilized but did not sufficiently consider the combined impacts of the earthquakes and economic instability on rates of violence and general insecurity.⁴⁴ El Salvador's recovery had been (and continues to be) encumbered by staggering levels of violence—mainly related to gang activity and the state's response—as well as pervasive and high levels of gender-based violence. In 2018, El Salvador had one of the world's highest homicide rates and its security forces were widely reported as either ineffective or engaged in human rights violations and abuses, including the extrajudicial executions of alleged gang members, sexual assaults, and enforced disappearances.⁴⁵ Violent gang activity is particularly serious in El Salvador due to the country's economic and social challenges.⁴⁶ Young people are highly vulnerable to gang recruitment, with a quarter of Salvadoran youth not engaged in education, employment, or training.⁴⁷ Violent nonstate actors impact the ability of NGOs to operate by imposing restrictions in areas they control.⁴⁸ DHS also found that, in 2018, El Salvador was accepting the returns of its nationals who were removed for various reasons; however, it did not adequately consider that some of those who returned became targets for violent nonstate actors, leading to extortion, torture, and murder of deportees.⁴⁹

⁴⁴ Termination of the Designation of El Salvador for Temporary Protected Status, 83 FR 2654 (Jan. 18, 2018).

⁴⁵ El Salvador Events of 2018, Human Rights Watch, available at https://www.hrw.org/world-report/2019/country-chapters/el-salvador (last accessed March 6, 2023).

⁴⁶ Cheatham, Amelia & Roy, Diana, Central America's Turbulent Northern Triangle, Council on Foreign Relations, available at https://www.cfr.org/backgrounder/central-americas-turbulent-northern-triangle (last accessed March 6, 2023).

⁴⁷ Brand-Weiner, Ian, Reducing Violence in El Salvador: What it Will Take, Organization for Economic Cooperation and Development, available at https://oecd-development-matters.org/2018/01/17/reducing-violence-in-el-salvador-what-it-will-take/ (last accessed March 6, 2023).

⁴⁸ Disaster Risk Reduction in El Salvador, An Evaluation of Non-Governmental Organizations' Role and Impact, Texas A&M University, May 3, 2022, available at condevcenter.org/Portals/0/El%20Salvador%20Capstone%202022.pdf (last accessed March 6, 2023).

⁴⁹ El Salvador: Background and U.S. Relations, Congressional Research Service, July 1, 2020, available at https://sgp.fas.org/crs/row/R43616.pdf (last accessed March 6, 2023).

As explained above, at the time of the decision to terminate TPS, El Salvador continued to experience ongoing environmental disasters, economic instability, and high rates of violence, that were either insufficiently considered or not considered in the termination decision. The termination decision failed to adequately assess conditions in El Salvador in 2018. Those conditions continued to substantially disrupt living conditions and temporarily affected the country's ability to adequately handle the return of its nationals residing in the United States. The Secretary has concluded that reconsideration and rescission of the termination of TPS is appropriate and timely, particularly given that the 2018 termination decision has not yet gone into effect due to the ongoing litigation and associated court orders.

What authority does the Secretary have to extend the designation of El Salvador for TPS?

As noted above, section 244(b) of the INA, 8 U.S.C. 1254a(b), authorizes the Secretary, after consultation with appropriate agencies of the U.S. Government, to designate a foreign state (or part thereof) for TPS if the Secretary determines that certain country conditions exist and instructs the Secretary to periodically review the country conditions underpinning each designation and determine whether they still exist, leading to either termination or extension of the TPS designation. However, if the Secretary determines that the foreign state no longer meets the conditions for TPS designation, the Secretary must terminate the designation. See INA section 244(b)(3)(B), 8 U.S.C. 1254a(b)(3)(B). If the Secretary does not make a decision as to either extension or termination, then INA section 244(b)(3)(C) requires the automatic extension of the designation for six months (or 12 or 18 months in the Secretary's discretion).

Prior to the now-rescinded termination of the TPS designation for El Salvador, the most recent extension of the designation was due to end on March 9, 2018.⁵⁰ In light of the Secretary's reconsideration and rescission of the January 18, 2018 decision to terminate the TPS designation for El Salvador, there is no longer any standing secretarial determination that El Salvador “no longer meets the conditions for designation” under INA section 244(b)(1). Accordingly, pursuant to INA section 244(b)(3)(C), and in the absence of an affirmative decision by any Secretary to extend the designation for 12 or 18 months rather than the automatic six months triggered by the statue, the TPS designation for El Salvador shall have been extended in consecutive increments of six months between the date when the last designation extension was due to end on March 9, 2018, and the effective date of the TPS extension announced in this notice on September 10, 2023. Coupled with the existing Ramos order and corresponding Federal Register notices continuing TPS and TPS-related documentation for affected beneficiaries under the designation for El Salvador, this means that all such individuals whose TPS has not been finally withdrawn for individual ineligibility are deemed to have retained TPS since March 9, 2018, and may re-register under procedures announced in this Notice.

⁵⁰ See 81 FR 44645 (July 8, 2016).

Why is the Secretary extending the TPS designation for El Salvador for TPS for 18 months through March 9, 2025?

DHS has reviewed country conditions in El Salvador. Based on the review, including input received from DOS and other U.S. Government agencies, the Secretary has determined that an 18-month TPS extension is warranted because the conditions supporting El Salvador's 2001 designation for TPS on the basis of environmental disaster remain.

As previously discussed, El Salvador was originally designated for TPS in 2001 ⁵¹ following two separate earthquakes. Recovery from these earthquakes has been impeded by El Salvador's ongoing environmental challenges, including its high vulnerability to “more frequent occurrences of floods, droughts, and tropical storms, all of which disproportionally affect poor and vulnerable populations.” ⁵² During the rainy season, which generally runs from June to November, El Salvador is impacted by extreme weather, which damages roads, property, and infrastructure; disrupts supplies, services, and utilities; and even causes loss of life.⁵³ Through the present, El Salvador continues to experience compounding environmental disasters, hindering recovery and rendering it unable to handle adequately the return of its nationals.

⁵¹ Designation of El Salvador Under Temporary Protected Status Program, 66 FR 14214 (Mar. 9, 2001).

⁵² The World Bank in El Salvador, Overview, The World Bank, Apr. 22, 2022, available at https://www.worldbank.org/en/country/elsalvador/overview (last visited March 6, 2023).

⁵³ Foreign Travel Advice El Salvador, Gov.UK, Oct. 20, 2022, available at https://www.gov.uk/foreign-travel-advice/el-salvador/print (last visited March 6, 2023).

As recently as October 2022, Tropical Storm Julia passed over El Salvador, leaving extensive flooding and deadly mudslides due to oversaturated ground from an active rainy season.⁵⁴ El Salvador declared a 15-day state of national emergency in response to Tropical Storm Julia.⁵⁵ Approximately 120 shelters were activated for 2,837 people, and at least 10 individuals died.⁵⁶ Assessments indicated that 180,000 people who were already facing acute food insecurity were affected by heavy rains.⁵⁷ A trend analysis of food insecurity and disasters found that environmental degradation and natural disasters led to increased insecurity, and both of these factors have significantly impacted El Salvador since 2001.⁵⁸

⁵⁴ Northern Central America: TS Julia and Rainy Season Flash Update No. 01, United Nations Office for the Coordination of Humanitarian Affairs (UNOCHA), Oct. 14, 2022, available at: https://reliefweb.int/report/guatemala/northern-central-america-ts-julia-and-rainy-season-flash-update-no-01-14-october-2022 (last visited March 6, 2023).

⁵⁵ Northern Central America: TS Julia and Rainy Season Flash Update No. 01, United Nations Office for the Coordination of Humanitarian Affairs (UNOCHA), Oct. 14, 2022, available at: https://reliefweb.int/report/guatemala/northern-central-america-ts-julia-and-rainy-season-flash-update-no-01-14-october-2022 (last visited March 6, 2023).

⁵⁶ El Salvador: Tropical Storm Julia—Emergency Plan of Action (EPoA), DREF Operation No. MDRSV015, International Federation of Red Cross and Red Crescent Societies (IFRC) Situation Report, Oct. 26, 2022, available at https://reliefweb.int/report/el-salvador/el-salvador-tropical-storm-julia-emergency-plan-action-epoa-dref-operation-no-mdrsv015 (last visited March 6, 2023).

⁵⁷ Northern Central America: TS Julia and Rainy Season Flash Update No. 01, United Nations Office for the Coordination of Humanitarian Affairs (UNOCHA), Oct. 14, 2022, available at https://reliefweb.int/report/guatemala/northern-central-america-ts-julia-and-rainy-season-flash-update-no-01-14-october-2022 (last visited March 6, 2023).

⁵⁸ Restoring Food Security and Livelihoods for Vulnerable Groups Affected by Recurrent Shocks in El Salvador, Guatemala, Honduras and Nicaragua, UN World Food Programme, Oct. 7, 2013, https://one.wfp.org/operations/current_operations/project_docs/200490.pdf (last visited: March 6, 2023).

In October 2018, the Government of El Salvador published an updated report regarding the heavy rain situation in the country at that time. Seven rivers flooded and 1,409 homes were affected.⁵⁹ In May and June 2020, tropical storms Amanda and Cristóbal causing widespread floods and landslides throughout the country, causing loss of life and significant material damage.⁶⁰ Collectively, the storms also disrupted agricultural production, and caused acute food insecurity due to irregular rainfall, which was worsened by the impacts of the COVID-19 pandemic.⁶¹ More than 149,000 people were directly affected the storms, and as a result, the WFP estimated that more than 330,000 people were facing severe food insecurity.⁶² In November 2020, the Civil Protection Agency in El Salvador issued a national red alert due to the formation of Hurricane Eta, which sent more than 2,200 people to shelters.⁶³ As a result of Hurricane Eta, El Salvador experienced major flooding and soon after, experienced heavy rain and flooding from Hurricane Iota.⁶⁴ It also caused two deaths and significant agricultural damage across the country.⁶⁵ It is estimated that 17,000 people were internally displaced as a result of Hurricanes Eta and Iota.⁶⁶ These countrywide consecutive events led to an overwhelming increase in the number of identified people in need of humanitarian assistance from 643,000 before the start of the COVID-19 pandemic to 1.7 million.⁶⁷

⁵⁹ Natural Disasters Monitoring, News and Press Release Pan-American Health Organization (PAHO), Oct. 10, 2018, available at https://reliefweb.int/report/el-salvador/natural-disasters-monitoring-october-10-2018 (last visited March 6, 2023).

⁶⁰ Durroux-Malpartida, Veronique, As El Salvador faces the double impact of hurricanes and COVID-19, NGOs step in, United Nations Office for the Coordination of Humanitarian Affairs (UNOCHA), Dec. 30, 2020, available at https://www.unocha.org/story/el-salvador-faces-double-impact-hurricanes-and-covid-19-ngos-step (last visited March 6, 2023).

⁶¹ El Salvador-Disaster Response, USAID, Sept. 7, 2022, available at: https://www.usaid.gov/el-salvador/our-work/disaster-response (last visited March 6, 2023).

⁶² Durroux-Malpartida, Veronique, As El Salvador faces the double impact of hurricanes and COVID-19, NGOs step in, United Nations Office for the Coordination of Humanitarian Affairs (UNOCHA), Dec. 30, 2020, available at https://www.unocha.org/story/el-salvador-faces-double-impact-hurricanes-and-covid-19-ngos-step (last visited March 6, 2023).

⁶³ Durroux-Malpartida, Veronique, As El Salvador faces the double impact of hurricanes and COVID-19, NGOs step in, United Nations Office for the Coordination of Humanitarian Affairs (UNOCHA), Dec. 30, 2020, available at https://www.unocha.org/story/el-salvador-faces-double-impact-hurricanes-and-covid-19-ngos-step (last visited March 6, 2023).

⁶⁴ National Hurricane Center Tropical Cyclone Report: Hurricane Eta, NHC, Nov. 2020, https://www.nhc.noaa.gov/data/tcr/AL292020_Eta.pdf (last visited: Feb. 24, 2023); National Hurricane Center Tropical Cyclone Report: Hurricane Iota, NHC, Nov. 2020, https://www.nhc.noaa.gov/data/tcr/AL312020_Iota.pdf (last visited: March 6, 2023).

⁶⁵ Id.

⁶⁶ US Department of State, 2021 Country Report on Human Rights Practices: El Salvador, April 12, 2022, https://www.ecoi.net/en/document/2071137.html (accessed on March 6, 2023).

⁶⁷ Durroux-Malpartida, Veronique, As El Salvador faces the double impact of hurricanes and COVID-19, NGOs step in, United Nations Office for the Coordination of Humanitarian Affairs (UNOCHA), Dec. 30, 2020, available at https://www.unocha.org/story/el-salvador-faces-double-impact-hurricanes-and-covid-19-ngos-step (last visited March 6, 2023).

In addition to the numerous environmental disasters following the 2001 earthquakes, El Salvador continues to experience a frail macroeconomic environment, a high rate of unemployment, violence, and a poor security situation that continues to render the country temporarily unable to adequately handle the return of its nationals. El Salvador is plagued by intense violence involving criminal groups and gang warfare, as well as a deteriorating political crisis, due to the government's aggressive security strategies to combat gang violence. As reported in July 2020 by the International Crisis Group (ICG), El Salvador continues to be exposed to violence involving criminal groups, particularly Mara Salvatrucha (MS-13) and the 18th Street gang's two factions, the Revolutionaries and the Southerners.⁶⁸ At that time, authorities estimated that 60,000 active gang members operated in 94 percent of the country's municipalities.⁶⁹ Gang violence has hampered reconstruction efforts, with NGOs reporting that in gang-controlled territories, they must abide by curfews, stop work when ordered, and often require approval from gangs to work in those areas.⁷⁰

⁶⁸ Miracle or Mirage? Gangs and Plunging Violence in El Salvador, International Crisis Group, p.2, July 8, 2020, available at https://www.crisisgroup.org/latin-america-caribbean/central-america/el-salvador/81-miracle-or-mirage-gangs-and-plunging-violence-el-salvador (last visited March 6, 2023).

⁶⁹ Miracle or Mirage? Gangs and Plunging Violence in El Salvador, International Crisis Group, p.2, July 8, 2020, available at https://www.crisisgroup.org/latin-america-caribbean/central-america/el-salvador/81-miracle-or-mirage-gangs-and-plunging-violence-el-salvador (last visited March 6, 2023).

⁷⁰ Disaster Risk Reduction in El Salvador, An Evaluation of Non-Governmental Organizations' Role and Impact, Texas A&M University, May 3, 2022, available at condevcenter.org/Portals/0/El%20Salvador%20Capstone%202022.pdf (last accessed March 6, 2023).

Elected in 2019, President Nayib Bukele has attributed a plunge in homicides to a security policy of sending police and troops into gang-controlled neighborhoods.⁷¹ However, El Salvador's overall decline in its homicide rate in 2020 and 2021 ⁷² has also been attributed to a “covert pact” between the government and the largest gangs operating in the country—the collapse of which reportedly led to a spike in murders in late March 2022.⁷³

⁷¹ Treasury Targets Corruption Networks Linked to Transnational Organized Crime, Press Release, U.S. Treasury, Dec. 8, 2021, available at https://home.treasury.gov/news/press-releases/jy0519 (last visited March 6, 2023). After experiencing a spike in homicides in 2015, El Salvador went from Latin America's most violent country to number 11 in 2021. See United States Institute of Peace, “El Salvador Needs Long-Term Solutions to End Cycles of Violence,” Apr. 6, 2022, available at https://www.usip.org/publications/2022/04/el-salvador-needs-long-term-solutions-end-cycles-violence#:~:text=From%20Latin%20America's%20most%20violent,Mexico%20(26%20per%20100%2C000 (last visited March 6, 2023).

⁷² InSight Crime's 2021 Homicide Round-Up, InSight Crime, Feb. 1, 2022, available at https://insightcrime.org/news/insight-crimes-2021-homicide-round-up/ (last visited on March 6, 2023).

⁷³ Martínez, Carlos, Collapsed Government Talks with MS-13 Sparked Record Homicides in El Salvador, Audios Reveal, El Faro (El Sal.), May 17, 2022, available at https://www.nytimes.com/2022/04/28/world/americas/el-salvador-bukele-gangs.html (last visited March 6, 2023).

President Bukele has been described as “increasingly authoritarian, and his critics say the leader's threat to democracy has only grown.” ⁷⁴ In a December 2021 report, the Congressional Research Service described a series of actions taken by President Bukele and his government as “democratic backsliding” ⁷⁵ and “removing checks on presidential power.” ⁷⁶ In March 2022, the government of El Salvador declared a 30-day state of emergency, suspending citizen's constitutional rights, in response to a spike in homicides, when El Salvador registered 62 murders in a single day, “the bloodiest since the end of the country's civil war in 1992.” ⁷⁷ This initial month-long crackdown on gangs has been regularly renewed since then, with the latest renewal announced in March 2023.⁷⁸ As of March 2023, more than 65,000 people had been arrested under these orders, and human rights groups claim that many of the of the mass detentions could amount to arbitrary detentions based on “poorly substantiated investigations or crude profiling of the physical appearance or social background of those detained.” ⁷⁹ Human Rights Watch reported that the government's emergency provisions suspended privacy rights, freedom of association and peaceful assembly, and some fair trial guarantees and other applicable legal protections.⁸⁰ Amnesty International has documented that authorities in El Salvador have dismantled judicial independence and committed torture and thousands of arbitrary detentions and violations of fair trial guarantees and other applicable legal protections.⁸¹

⁷⁴ El Salvador's Nayib Bukele: Strong and Getting Stronger, America's Quarterly, Feb. 23, 2021, available at https://www.americasquarterly.org/article/aq-podcast-el-salvadors-nayib-bukele-strong-and-getting-stronger/ (last visited March 6, 2023).

⁷⁵ El Salvador: Authoritarian Actions and U.S. Response, Congressional Research Service, p.1, Dec. 23, 2021, available at https://crsreports.congress.gov/product/pdf/IN/IN11658 (last visited March 6, 2023).

⁷⁶ El Salvador: Authoritarian Actions and U.S. Response, Congressional Research Service, p.2, Dec. 23, 2021, available at https://crsreports.congress.gov/product/pdf/IN/IN11658 (last visited March 6, 2023).

⁷⁷ Renteria, Nelson, In El Salvador's gang crackdown, quotas drive `arbitrary' arrests of innocents, Reuters, May 16, 2022, available at https://www.reuters.com/world/americas/el-salvadors-gang-crackdown-quotas-drive-arbitrary-arrests-innocents-2022-05-16/ (last visited March 6, 2023).

⁷⁸ El Salvador urged to uphold human rights amid state of emergency, United Nations News, Mar. 28, 2023, available at https://news.un.org/en/story/2023/03/1135097 (last visited March 30, 2023).

⁷⁹ El Salvador urged to uphold human rights amid state of emergency, United Nations News, Mar. 28, 2023, available at https://news.un.org/en/story/2023/03/1135097 (last visited March 30, 2023); How is a `state of exception' changing El Salvador?, Al Jazeera, June 7, 2022, available at https://www.aljazeera.com/program/the-stream/2022/6/7/what-is-the-true-impact-of-el-salvadors-state-of (last visited March 6, 2023).

⁸⁰ El Salvador: Evidence of Serious Abuse in State of Emergency, Human Rights Watch, May 2, 2022, available at https://www.hrw.org/news/2022/05/02/el-salvador-evidence-serious-abuse-state-emergency (last visited March 6, 2023).

⁸¹ Tucker, Duncan, Eviscerating Human Rights Is Not The Answer To El Salvador's Gang Problem, Amnesty International, Aug. 31, 2022, available at https://www.amnesty.org/en/latest/news/2022/08/eviscerating-human-rights-el-salvador-gang-problem/ (last visited March 6, 2023).

Since March 2022, police and soldiers have been conducting raids and arresting thousands at their home and in the street.⁸² The number of arrests under the state of emergency increased to 50,000 as of mid-August 2022.⁸³ Official statistics and other government information has become increasingly difficult to access under the state of emergency, and authorities reportedly have changed “what counts as a homicide.” ⁸⁴ The discrepancy between reported homicide numbers and the actual numbers of bodies reportedly recovered from mass graves continues to be of concern.⁸⁵ Under President Bukele, significant human rights abuses and violations by security forces are widely reported to continue, including unlawful disappearances, torture, and extrajudicial killings of suspected gang members.⁸⁶

⁸² El Salvador: Evidence of Serious Abuse in State of Emergency, Human Rights Watch, May 2, 2022, available at https://www.hrw.org/news/2022/05/02/el-salvador-evidence-serious-abuse-state-emergency (last visited March 6, 2023).

⁸³ El Salvador extends state of exception as arrests hit 50,000, Al Jazeera, Aug. 17, 2022, available at https://www.aljazeera.com/news/2022/8/17/el-salvador-extends-state-of-exception-as-arrests-hit-50000 (last visited March 6, 2023).

⁸⁴ Renteria, Nelson, In El Salvador, discrepancy over deaths and mass graves alarms critics, Reuters, Aug. 3, 2022, available at https://www.reuters.com/world/americas/el-salvador-discrepancy-over-deaths-mass-graves-alarms-critics-2022-08-03/ (last visited March 6, 2023).

⁸⁵ Renteria, Nelson, In El Salvador, discrepancy over deaths and mass graves alarms critics, Reuters, Aug. 3, 2022, available at https://www.reuters.com/world/americas/el-salvador-discrepancy-over-deaths-mass-graves-alarms-critics-2022-08-03/ (last visited March 6, 2023).

⁸⁶ US Department of State, 2021 Country Report on Human Rights Practices: El Salvador, April 12, 2022, https://www.ecoi.net/en/document/2071137.html (last visited March 6, 2023).

The Internal Displacement Monitoring Centre (IDMC) noted in a 2018 report that “[d]isplacement caused by crime and violence has, by any measure, risen to the level of a humanitarian crisis in El Salvador.” ⁸⁷ In July 2018, internal forced displacement was officially recognized by the Supreme Court of El Salvador.⁸⁸ In January 2020, the Legislative Assembly approved the “Special Law for the Comprehensive Care and Protection of People in a situation of Forced Internal Displacement,” a fundamental instrument to provide care, protection, and lasting solutions to people internally displaced due to violence from organized crime and criminal gangs, as well as those who may be at risk of displacement.⁸⁹ In August 2021, the United Nations High Commissioner for Refugees (UNHCR) reported that communities in El Salvador are severely affected by gang violence, extortion, death threats, and sexual violence, as well as other serious human rights violations.⁹⁰

⁸⁷ Knox, Vickie, An Atomised Crisis: Reframing displacement caused by crime and violence in El Salvador, Internal Displacement Monitoring Centre (IDMC), p.6, Sept. 2018, available at https://www.internal-displacement.org/sites/default/files/publications/documents/201809-el-salvador-an-atomised-crisis-en.pdf (last visited March 6, 2023).

⁸⁸ Fact Sheet > El Salvador, United Nations High Commissioner for Refugees (UNHCR), p.2, Aug. 2021, available at https://reporting.unhcr.org/sites/default/files/El%20Salvador%20Factsheet%20August%202021.pdf (last visited March 6, 2023).

⁸⁹ Fact Sheet > El Salvador, United Nations High Commissioner for Refugees (UNHCR), p.2, Aug. 2021, available at https://reporting.unhcr.org/sites/default/files/El%20Salvador%20Factsheet%20August%202021.pdf (last visited March 6, 2023).

⁹⁰ Fact Sheet > El Salvador, United Nations High Commissioner for Refugees (UNHCR), p.1, Aug. 2021, available at https://reporting.unhcr.org/sites/default/files/El%20Salvador%20Factsheet%20August%202021.pdf (last visited March 6, 2023).

Gang violence and lack of access to effective protection has forced tens of thousands to flee internally since 2006.⁹¹ Violence and lack of opportunities have forced people to leave their homes in search of protection, access to basic services and livelihood opportunities. COVID-19 has exacerbated the needs of internally displaced persons and those at risk of displacement by impacting their access to protection and livelihoods.⁹² While President Bukele's tactics have caused a decrease in the rate of gang violence, severe gang violence persists, and the tactics used by the Bukele administration have failed to address the root causes of gang membership, including poverty and insecurity, which are exacerbated by the lingering effects of major environmental disasters. Impoverished individuals are less likely to move to safer areas due to lack of financial resources and the geographic areas where they can afford to live are more likely to be gang-impacted and environmentally degraded.⁹³

⁹¹ Fact Sheet > El Salvador, United Nations High Commissioner for Refugees (UNHCR), p.2, Aug. 2021, available at https://reporting.unhcr.org/sites/default/files/El%20Salvador%20Factsheet%20August%202021.pdf (last visited March 6, 2023).

⁹² Fact Sheet > El Salvador, United Nations High Commissioner for Refugees (UNHCR), p.1, Aug. 2021, available at https://reporting.unhcr.org/sites/default/files/El%20Salvador%20Factsheet%20August%202021.pdf (last visited March 6, 2023).

⁹³ Disaster risk reduction in El Salvador, Texas A&M University, May 3, 2022, condevcenter.org/Portals/0/El%20Salvador%20Capstone%202022.pdf (last visited: March 6, 2023).

In summary, while progress has been made in repairing damage caused by the 2001 earthquakes, El Salvador continues to experience numerous natural disasters that significantly disrupt living conditions and adversely impact its ability to adequately handle the return of those granted TPS. A weak macroeconomic environment, a high rate of unemployment, violence, and a poor security situation adversely impact the country's ability to fully recover and continue to render the country temporarily unable to adequately handle the return of its nationals.

Based upon this review and after consultation with appropriate U.S. Government agencies, the Secretary has determined that:

• At the time the Secretary's decision to terminate El Salvador's designation for TPS was announced on January 18, 2018, conditions in El Salvador continued to support the country's designation for TPS on the ground of environmental disaster; therefore, the termination should be rescinded and such rescission is timely given that the termination has not yet gone into effect. See INA section 244(b)(1)(B), 8 U.S.C. 1254a(b)(1)(B).

• The conditions supporting El Salvador's designation for TPS still continue to be met. See INA section 244(b)(3)(A) and (C), 8 U.S.C. 1254a(b)(3)(A) and (C).

• There has been an earthquake, flood, drought, epidemic, or other environmental disaster in El Salvador resulting in a substantial, but temporary, disruption of living conditions in the area affected; El Salvador is unable, temporarily, to handle adequately the return of its nationals; and El Salvador officially requested designation of TPS. See INA section 244(b)(1)(B), 8 U.S.C. 1254a(b)(1)(B);

• The designation of El Salvador for TPS should be extended for an 18-month period, beginning on September 10, 2023 and ending on March 9, 2025. See INA section 244(b)(3)(C), 8 U.S.C. 1254a(b)(3)(C).

Notice of the Rescission of TPS Termination and Extension of the TPS Designation of El Salvador

Pursuant to my lawful authorities, including under sections 103(a) and 244 of the Immigration and Nationality Act, I am hereby rescinding the termination of the TPS designation of El Salvador announced in the Federal Register at 83 FR 2654 on January 18, 2018. Due to this rescission and pursuant to INA section 244(b)(3)(C), as well as the ongoing preliminary injunction in Ramos v. Nielsen, 336 F. Supp. 3d 1075 (N.D. Cal. 2018), the TPS designation of El Salvador has continued to automatically extend under the statute since July 8, 2016, without a standing secretarial determination as to whether TPS should be extended or terminated. TPS beneficiaries under the designation, whose TPS has not been finally withdrawn for individual ineligibility, therefore have continued to maintain their TPS since March 9, 2018.

By the authority vested in me as Secretary under INA section 244, 8 U.S.C. 1254a, I have determined, after consultation with the appropriate U.S. Government agencies, the statutory conditions supporting El Salvador's designation for TPS on the basis of environmental disaster continue to be met. See INA sections 244(b)(1)(B) and 244(b)(3)(A); 8 U.S.C. 1254a(b)(1)(B) and 1254a(b)(3)(A). On the basis of this determination, I am extending the existing designation of El Salvador for TPS for 18 months, beginning on September 10, 2023 and ending on March 9, 2025. See INA section 244(b)(3)(C), 8 U.S.C. 1254a(b)(3)(C). Individuals holding TPS under the designation of El Salvador may file to reregister for TPS under the procedures announced in this notice if they wish to continue their TPS under this 18-month extension.

Alejandro N. Mayorkas,
Secretary, U.S. Department of Homeland Security.

Eligibility and Employment Authorization for TPS

Required Application Forms and Application Fees To Re-Register for TPS

To re-register for TPS based on the designation of El Salvador, you must submit a Form I-821, Application for Temporary Protected Status during the 60-day reregistration period that starts on July 12, 2023 and ends on September 10, 2023. There is no Form I-821 fee for re-registration. See 8 CFR 244.17. You may be required to pay the biometric services fee. If you can demonstrate an inability to pay the biometric services fee, you may request to have the fee waived. Please see additional information under the “Biometric Services Fee” section of this notice.

Individuals who have an El Salvador TPS application (Form I-821) that was still pending as of June 21, 2023 do not need to file the application again. If USCIS approves an individual's Form I-821, USCIS will grant the individual TPS through March 9, 2025.

Required Application Forms and Application Fees To Obtain an EAD

Every employee must provide their employer with documentation showing they have a legal right to work in the United States. TPS beneficiaries are authorized to work in the United States and are eligible for an EAD which proves their employment authorization. If you have an existing EAD issued under the TPS designation of El Salvador that has been auto-extended through June 30, 2024 by the notice published at 87 FR 68717, you may continue to use that EAD through that date. If you want to obtain a new EAD valid through March 9, 2025, you must file an Application for Employment Authorization (Form I-765) and pay the Form I-765 fee (or request a fee waiver, which you may submit on Form I-912, Request for Fee Waiver).

You may, but are not required to, submit Form I-765, Application for Employment Authorization, with your Form I-821 re-registration application. If you do not want a new EAD now, you can request one later by filing your I-765 and paying the fee (or requesting a fee waiver) at that time, provided you have TPS or a pending TPS application. If you have TPS and only a pending Form I-765, you must file the Form I-821 to reregister for TPS or risk having your TPS withdrawn for failure to reregister without good cause.

Information About Fees and Filing

USCIS offers the option to applicants for TPS under El Salvador's designation to file Form I-821 and related requests for EADs online or by mail. When filing a TPS application, applicants can also request an EAD by submitting a completed Form I-765, with their Form I-821.

Online filing: Form I-821 and I-765 are available for concurrent filing online.⁹⁴ To file these forms online, you must first create a USCIS online account.⁹⁵ However, if you are requesting a fee waiver, you cannot submit the applications online. You will need to file paper versions of the fee waiver request and the form for which you are requesting the fee waiver.

⁹⁴ Find information about online filing at “Forms Available to File Online,” https://www.uscis.gov/file-online/forms-available-to-file-online.

⁹⁵ https://myaccount.uscis.gov/users/sign_up.

Mail filing: Mail your application for TPS to the proper address in Table 1.

Table 1—Mailing Addresses: Mail your completed Form I-821, Application for Temporary Protected Status and Form I-765, Application for Employment Authorization, Form I-912, Request for Fee Waiver, if applicable, and supporting documentation to the proper address in Table 1.

Table 1—Mailing Addresses
If you live in: | Then mail your application to:
• Texas | USCIS Dallas Lockbox.
| U.S. Postal Service (USPS): USCIS, Attn: TPS El Salvador, P.O. Box 660864, Dallas, TX 75266-0864.
| FedEx, UPS, or DHL: USCIS, Attn: TPS El Salvador (Box 660864), 2501 S State Highway 121 Business, Suite 400, Lewisville, TX 75067-8003.
• American Samoa • Arizona. • California. • Connecticut. • Delaware. • District of Columbia. • Georgia. • Guam. | USCIS Chicago Lockbox. U.S. Postal Service (USCIS): USPS, Attn: TPS El Salvador, P.O. Box 8635, Chicago, IL 60680-8635. FedEx, UPS, or DHL: USCIS, Attn: TPS El Salvador (Box 8635), 131 S. Dearborn St., 3rd Floor, Chicago, IL 60603-5517.
• Illinois.
• Indiana.
• Kentucky.
• Maine.
• Massachusetts.
• Michigan.
• Nevada.
• New Hampshire.
• New Jersey.
• North Carolina.
• Northern Mariana Islands.
• Ohio.
• Oregon.
• Pennsylvania.
• Puerto Rico.
• Rhode Island.
• South Carolina.
• Vermont.
• Virgin Islands.
• Virginia.
• Washington.
• West Virginia.
• Alabama | USCIS Elgin Lockbox.
• Alaska. • Arkansas. • Colorado. • Florida. • Hawaii. • Idaho. • Iowa. | U.S. Postal Service (USPS): USCIS, Attn: TPS El Salvador, P.O. Box 4091, Carol Stream, IL 60197-4091. FedEx, UPS, or DHL: USCIS, Attn: TPS El Salvador (Box 4091), 2500 Westfield Drive, Elgin, IL 60124-7836.
• Kansas.
• Louisiana.
• Maryland.
• Minnesota.
• Mississippi.
• Missouri.
• Montana.
• Nebraska.
• New Mexico.
• New York.
• North Dakota.
• Oklahoma.
• South Dakota.
• Tennessee.
• Utah.
• Wisconsin.
• Wyoming.

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (i.e., registering) for TPS on the USCIS website at https://www.uscis.gov/tps under “El Salvador.”

Travel

TPS beneficiaries may also apply for and be granted travel authorization as a matter of discretion. You must file for travel authorization if you wish to travel outside of the United States. If granted, travel authorization gives you permission to leave the United States and return during a specific period. To request travel authorization, you must file Form I-131, Application for Travel Document, available at https://www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are . . . | Mail to . . .
Filing Form I-131 together with a Form I-821, Application for Temporary Protected Status | The address provided in Table 1.
Filing Form I-131 based on a pending or approved Form I-821, and you are using the U.S. Postal Service (USPS): | USCIS, Attn: I-131 TPS, P.O. Box 660167, Dallas, TX 75266-0867.
You must include a copy of the receipt notice (Form I-797 or I-797C) showing we accepted or approved your Form I-821.
Filing Form I-131 based on a pending or approved Form I-821, and you are using FedEx, UPS, or DHL: | USCIS, Attn: I-131 TPS, 2501 S State Hwy. 121, Business Ste. 400, Lewisville, TX 75067.
You must include a copy of the receipt notice (Form I-797 or I-797C) showing we accepted or approved your Form I-821.

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. Fees for Form I-765 and biometric services are also described in 8 CFR 103.7(b)(1) (Oct. 1, 2020). If necessary, you may be required to visit an Application Support Center to have your biometrics captured. For additional information on the USCIS biometric screening process, please see the USCIS Customer Profile Management Service Privacy Impact Assessment, available at https://www.dhs.gov/publication/dhsuscispia-060-customer-profile-management-service-cpms.

Refiling a TPS Re-Registration Application After Receiving a Denial of a Fee Waiver Request

You should file as soon as possible within the 60-day re-registration period so USCIS can process your application and issue your EAD promptly, if one has been requested. Properly filing early will also allow you to have time to refile your application before the deadline, should USCIS deny your fee waiver request. The fee waiver denial notice will contain specific instructions about resubmitting your application. However, you are urged to refile within 45 days of the date on any USCIS fee waiver denial notice, if possible. See INA section 244(c)(3)(C); 8 U.S.C. 1254a(c)(3)(C); 8 CFR 244.17(b). For more information on good cause for late re-registration, visit the USCIS TPS web page at www.uscis.gov/tps.

Note: A re-registering TPS beneficiary age 14 and older must pay the biometric services fee (but not the Form I-821 fee), or request a fee waiver, when filing a TPS re-registration application. As discussed above, if you decide to wait to request an EAD, you do not have to file the Form I-765 or pay the associated Form I-765 fee (or request a fee waiver) at the time of re-registration. You may wait to seek an EAD until after USCIS has approved your TPS re-registration application or at any later date you decide you want to request an EAD. To re-register for TPS, you only need to file the Form I-821 with the biometrics services fee, if applicable (or request a fee waiver).

General Employment-Related Information for TPS Applicants and Their Employers

How can I obtain information on the status of my TPS application and EAD request?

To get case status information about your TPS application, as well as the status of your TPS-based EAD request, you can check Case Status Online at uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A.

If I have an EAD based on another immigration status, can I obtain a new TPS-based EAD?

Yes, if you are eligible for TPS, you can obtain a new TPS-based EAD, regardless of whether you have an EAD or work authorization based on another immigration status. If you want to obtain a new TPS-based EAD valid through March 9, 2025, then you must file Form I-765, Application for Employment Authorization, and pay the associated fee (unless USCIS grants your fee waiver request).

Can my employer require that I provide any other documentation such as evidence of my status or proof of my Salvadoran citizenship or a Form I-797C showing that I registered for TPS for Form I-9 completion?

No. When completing Form I-9, employers must accept any documentation you choose to present from the Form I-9 Lists of Acceptable Documents that reasonably appears to be genuine and that relates to you, or an acceptable List A, List B, or List C receipt. Employers need not reverify List B identity documents. Employers may not request proof of Salvadoran citizenship or proof of registration for TPS when completing Form I-9 for new hires or reverifying the employment authorization of current employees. Refer to the “Note to Employees” section of this Federal Register notice for important information about your rights if your employer rejects lawful documentation, requires additional documentation, or otherwise discriminates against you based on your citizenship or immigration status, or your national origin. Employers can refer to the compliance notice that DHS published on November 16, 2022, for information on how to complete the Form I-9 with TPS EADs that DHS extended through June 30, 2024.⁹⁶

⁹⁶ Continuation of Documentation for Beneficiaries of Temporary Protected Status Designations for El Salvador, Haiti, Nicaragua, Sudan, Honduras, and Nepal, 87 FR 68717 (Nov. 16, 2022).

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (mismatch) must promptly inform employees of the mismatch and give such employees an opportunity to take action to resolve the mismatch. A mismatch result means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/crt/immigrant-and-employee-rights-section and the USCIS and E-Verify websites at https://www.uscis.gov/i-9-central and https://www.e-verify.gov.

Note Regarding Federal, State, and Local Government Agencies (Such as Departments of Motor Vehicles)

This Federal Register Notice does not invalidate the compliance notice DHS issued on November 16, 2022, which extended the validity of certain TPS documentation through June 30, 2024 and does not require individuals to present a Form I-797, Notice of Action. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or that may be used by DHS to determine if you have TPS or another immigration status. Examples of such documents are:

• Your current EAD with a TPS category code of A-12 or C-19, even if your country of birth noted on the EAD does not reflect the TPS designated country of El Salvador; or

• Your Form I-94, Arrival/Departure Record or Form I-797, Notice of Action, as shown in the Federal Register notice published at 87 FR 68717.

Check with the government agency requesting documentation regarding which document(s) the agency will accept. Some state and local government agencies use SAVE to confirm the current immigration status of applicants for public benefits.

While SAVE can verify that an individual has TPS, each state and local government agency's procedures govern whether they will accept an unexpired EAD, Form I-797, Form I-797C, or Form I-94. It may also assist the agency if you:

a. Give the agency a copy of the relevant Federal Register notice listing the TPS-related document, including any applicable auto-extension of the document, in addition to your recent TPS-related document with your A-number, USCIS number or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or any automatic extension of TPS-related documentation. In most cases, SAVE provides an automated electronic response to benefit-granting agencies within seconds, but occasionally verification can be delayed.

You can check the status of your SAVE verification by using CaseCheck at https://save.uscis.gov/casecheck/. CaseCheck is a free service that lets you follow the progress of your SAVE verification case using your date of birth and one immigration identifier number (A-number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, www.uscis.gov/save, has detailed information on how to correct or update your immigration record, make an appointment, or submit a written request to correct records.

[FR Doc. 2023-13018 Filed 6-20-23; 8:45 am]

BILLING CODE 9111-97-P